OVERSEAS PRIVATE INVESTMENT CORPORATION

Sunshine Act; Public Hearing

March 17, 2010.

OPIC's Sunshine Act notice of its Public Hearing in Conjunction with each Board meeting was published in the Federal Register (Volume 75, Number 38, Page 9004) on February 26, 2010. No requests were received to provide testimony or submit written statements for the record; therefore, OPIC's public hearing scheduled for 3 p.m., March 17, 2010 in conjunction with OPIC's March 31, 2010 Board of Directors meeting has been cancelled.

Contact Person for Information: Information on the hearing cancellation may be obtained from Connie M. Downs at (202) 336-8438, via facsimile at (202) 218-0136, or via e-mail at Connie.Downs@opic.gov.

Dated: March 10, 2010.
Connie M. Downs,
OPIC Corporate Secretary.

[FR Doc. 2010-5663 Filed 3-12-10; 11:15 am]

BILLING CODE 3210-01-P